DEPARTMENT OF THE INTERIOR

Bureau of Land Management

[LLORB00000.L17110000.PH0000.LXSSH1060000.17XL1109AF; HAG 17-0053]

Notice of Public Meeting for the Steens Mountain Advisory Council

AGENCY: Bureau of Land Management, Interior.

ACTION: Notice of public meeting.

SUMMARY: In accordance with the Federal Land Policy and Management Act and the Federal Advisory Committee Act of 1972, and the U.S. Department of the Interior, Bureau of Land Management (BLM), the Steens Mountain Advisory Council (SMAC) will meet as indicated below:

DATES: Thursday, January 19, 2017 from 10 a.m. to 5 p.m., and Friday, January 20, 2017, from 8:30 a.m. to 2 p.m., at the Hilton Garden Inn, 425 SW Bluff Drive, Bend, Oregon. Daily sessions may end early if all business items are accomplished ahead of schedule, or go longer if discussions warrant more time.

FOR FURTHER INFORMATION CONTACT: Tara Thissell, Public Affairs Specialist, BLM Burns District Office, 28910 Highway 20 West, Hines, Oregon 97738, (541) 573-4519, or email tthissell@blm.gov. Persons who use a telecommunications device for the deaf (TDD) may call the Federal Relay Service at 1(800) 877-8339 to contact the above individual during normal business hours. The service is available 24 hours a day, 7 days a week, to leave a message or question with the above individual. You will receive a reply during normal business hours.

SUPPLEMENTARY INFORMATION: The SMAC was initiated August 14, 2001, pursuant to the Steens Mountain Cooperative Management and Protection Act of 2000 (Pub. L. 106-399). The SMAC provides representative counsel and advice to the BLM regarding new and unique approaches to management of the land within the bounds of the Steens Mountain Cooperative Management and Protection Area (CMPA), recommends cooperative programs and incentives for landscape management that meet human needs, and advises the BLM on maintenance and improvement of the ecological and economic integrity of the area. Agenda items for January 19-20, 2017 session include, but are not limited to: An update from the Designated Federal Official; information sharing on the implementation of projects for the Steens Mountain Comprehensive Recreation Plan; discussion of access to inholdings in the CMPA; a subcommittee report and discussion on public access at Pike Creek Canyon; and regular business items such as approving the previous meeting's minutes, member round-table, and planning the next meeting's agenda. Any other matters that may reasonably come before the SMAC may also be included, such as program status updates and previous meetings' follow-up items. A public comment period is available both days. Unless otherwise approved by the SMAC Chair, the public comment period will last no longer than 30 minutes, and each speaker may address the SMAC for a maximum of five minutes.

Jeff Rose,
Burns District Manager.

[FR Doc. 2016-31648 Filed 12-28-16; 8:45 am]

BILLING CODE 4310-33-P